DEPARTMENT OF ENERGY

Federal Energy Regulatory Commission

[Project No. 5089-026]

Notice of Intent To File License Application, Filing of Pre-Application Document, Approving Use of the Traditional Licensing Process: Fall River Rural Electric Cooperative, Inc.

a. Type of Filing: Notice of Intent to File License Application and Request to Use the Traditional Licensing Process.

b. Project No.: 5089-026.

c. Date Filed: August 31, 2018.

d. Submitted By: Fall River Rural Electric Cooperative, Inc.

e. Name of Project: Felt Hydroelectric Project.

f. Location: On the Teton River, in Teton County, Idaho. The project occupies 50.2 acres of United States lands administered by the U.S. Bureau of Land Management.

g. Filed Pursuant to: 18 CFR 5.3 of the Commission's regulations.

h. Potential Applicant Contact: Dave Peterson, Fall River Rural Electric Cooperative, Inc., 1150N 3400E, Ashton, ID 83420; (208) 652-7431; email—dave.peterson@fallriverelectric.com.

i. FERC Contact: John Matkowski at (202) 502-8576; or email at john.matkowski@ferc.gov.

j. Fall River Rural Electric Cooperative, Inc. (Fall River) filed its request to use the Traditional Licensing Process on August 31, 2018. Fall River provided public notice of its request on September 6, 2018. In a letter dated October 23, 2018, the Director of the Division of Hydropower Licensing approved Fall River's request to use the Traditional Licensing Process.

k. With this notice, we are initiating informal consultation with the U.S. Fish and Wildlife Service under section 7 of the Endangered Species Act and the joint agency regulations thereunder at 50 CFR, Part 402. We are also initiating consultation with the Idaho State Historic Preservation Officer, as required by section 106, National Historic Preservation Act, and the implementing regulations of the Advisory Council on Historic Preservation at 36 CFR 800.2.

l. Fall River filed a Pre-Application Document (PAD; including a proposed process plan and schedule) with the Commission, pursuant to 18 CFR 5.6 of the Commission's regulations.

m. A copy of the PAD is available for review at the Commission in the Public Reference Room or may be viewed on the Commission's website (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

n. The licensee states its unequivocal intent to submit an application for a new license for Project No. 5089. Pursuant to 18 CFR 16.8, 16.9, and 16.10 each application for a new license and any competing license applications must be filed with the Commission at least 24 months prior to the expiration of the existing license. All applications for license for this project must be filed by August 31, 2021.

o. Register online at http://www.ferc.gov/docs-filing/esubscription.asp to be notified via email of new filing and issuances related to this or other pending projects. For assistance, contact FERC Online Support.

Dated: October 23, 2018.
Nathaniel J. Davis, Sr.,
Deputy Secretary.

[FR Doc. 2018-23530 Filed 10-26-18; 8:45 am]

BILLING CODE 6717-01-P